DEPARTMENT OF TRANSPORTATION

Surface Transportation Board

[STB Finance Docket No. 35243]

Grand Trunk Western Railroad Company—Trackage Rights Exemption—Wisconsin Central Ltd.

Pursuant to a written trackage rights agreement dated April 16, 2009, Grand Trunk Western Railroad Company (GTW) has agreed to grant nonexclusive overhead and interchange trackage rights to Wisconsin Central Ltd. (WCL) ¹ over a line of railroad known as GTW's Elsdon Subdivision extending between the connection with Illinois Central Railroad Company trackage at or near milepost 23.2 (CN Junction) at Harvey, IL, and the connection with The Belt Railway Company of Chicago trackage at milepost 11.8 (Hayford Jct.) at Chicago, IL, a distance of approximately 11.4 miles, all in the State of Illinois.²

¹ A redacted version of the trackage rights agreement between GTW and WCL was filed with the notice of exemption. The full version of the agreement, as required by 49 CFR 1180.6(a)(7)(ii), was concurrently filed under seal along with a motion for protective order. The motion is being addressed in a separate decision.

² The Board recently approved the acquisition of control by Canadian National Railway Company and Grand Trunk Corporation (collectively, CN) of EJ&E West Company (EJ&EW), a wholly owned, noncarrier subsidiary of Elgin, Joliet and Eastern Railway Company (EJ&E), with EJ&EW acquiring certain land and rail line assets from EJ&E, including EJ&E's name, and becoming a rail carrier prior to CN acquiring control of it. See Canadian National Railway Company and Grand Trunk Corporation—Control—EJ&E West Company, STB Finance Docket No. 35087, (STB served Dec. 24, 2008). WCL states that, during recent exercises to implement EJ&E into CN's operations around the Chicago area, it was determined that the rights documented in this trackage rights agreement were established several years ago, implementing agreements were negotiated and executed with the affected unions, and operations were commenced. According to WCL, this filing is being made to assure that all necessary Board authorization has been secured.

The transaction is scheduled to be consummated on or about May 23, 2009, the effective date of the exemption (30 days after the exemption is filed). The purpose of the trackage rights is to enable WCL to efficiently handle overhead and interchange freight movements between Harvey and Hayford Jct. The transaction also extends to all industry spurs, connecting tracks, and sidings now existent or hereafter constructed along the tracks to be used here, and right-of-way for the tracks to be used here, signals, interlocking devices and plants, telegraph and telephone lines, and other appurtenances necessary to the use of those tracks. Under the trackage rights agreement, WCL shall not perform any local freight service on the subject trackage.

As a condition to this exemption, any employees affected by the acquisition of the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by May 15, 2009 (at least 7 days before the exemption becomes effective).

Pursuant to the Consolidated Appropriations Act, 2008, Public Law 110-161, § 193, 121 Stat. 1844 (2007), nothing in this decision authorizes the following activities at any solid waste rail transfer facility: Collecting, storing, or transferring solid waste outside of its original shipping container; or separating or processing solid waste (including baling, crushing, compacting, and shredding). The term “solid waste” is defined in section 1004 of the Solid Waste Disposal Act, 42 U.S.C. 6903.

An original and 10 copies of all pleadings, referring to STB Finance Docket No. 35243, must be filed with the Surface Transportation Board, 395 E Street, SW., Washington, DC 20423-0001. In addition, a copy of each pleading must be served on Thomas J. Healey, Counsel—Regulatory, CN, 17641 S. Ashland Ave., Homewood, IL 60430.

Board decisions and notices are available on our Web site at “http://www.stb.dot.gov.”

Decided: May 4, 2009.
By the Board, Rachel D. Campbell, Director, Office of Proceedings.
Jeffrey Herzig,
Clearance Clerk.

[FR Doc. E9-10742 Filed 5-7-09; 8:45 am]

BILLING CODE 4915-01-P